DEPARTMENT OF EDUCATION

[Docket No. ED-2020-SCC-0077]

Certification and Agreement for the ESSER Fund Application; ED-2020-SCC-0077; Correction

AGENCY: Office of Elementary and Secondary Education (OESE), Department of Education (ED).

ACTION: Correction notice.

SUMMARY: On June 16, 2020, the U.S. Department of Education published a 60-day comment period notice in the Federal Register (Vol. 85, No 116, Page 36385, Column 1, 2 and 3) seeking public comment for an information collection entitled, “Certification and Agreement for the ESSER Fund Application.” The total estimated number of annual burden hours of 260 was incorrect, and the correct number is 76,653 to include the LEA burden from the approved emergency collection under 1810-0744. The burden that relates to the Equitable Services Interim Final Rule will now be part of the 1810-0743 information collection.

The PRA Coordinator, Strategic Collections and Clearance Governance and Strategy Division, Office of Chief Data Officer, hereby issues a correction notice as required by the Paperwork Reduction Act of 1995.

Dated: July 16, 2020.
Kate Mullan,
PRA Coordinator, Strategic Collections and Clearance Governance and Strategy Division Office of Chief Data Officer.

[FR Doc. 2020-15803 Filed 7-21-20; 8:45 am]

BILLING CODE 4000-01-P